DEPARTMENT OF COMMERCE

International Trade Administration

[A-489-805]

Certain Pasta from Turkey: Final Results of Antidumping Duty Administrative Review and Determination Not to Revoke the Antidumping Duty Order in Part

AGENCY: Import Administration, International Trade Administration, Department of Commerce.

ACTION: Notice of Final Results of Antidumping Duty Administrative Review and Determination Not to Revoke the Antidumping Duty Order in Part: Certain Pasta from Turkey.

SUMMARY: On August 7, 2002, the Department of Commerce (the Department) published the preliminary results of the administrative review of the antidumping duty order on certain pasta from Turkey. This review covers one exporter/producer of subject merchandise, Filiz Gida Sanayi ve Ticaret A.S. (Filiz). The period of review (POR) is July 1, 2000, through June 30, 2001. Based on our analysis of the comments received, these final results differ from the preliminary results. The final results are listed in the section “Final Results of Review.” We are not revoking the antidumping order with respect to Filiz, because Filiz has not had three years of sales in commercial quantities at less than normal value. See the “Determination Not to Revoke” section of this notice.

EFFECTIVE DATE: February 11, 2003.

FOR FURTHER INFORMATION CONTACT: Lyman Armstrong or Alicia Kinsey, AD/CVD Enforcement, Office VI, Group II, Import Administration, International Trade Administration, U.S. Department of Commerce, 14th Street and Constitution Avenue, N.W., Washington, D.C. 20230; telephone: (202) 482-3601 or (202) 482-4793, respectively.

SUPPLEMENTARY INFORMATION:

Background

On August 7, 2002, the Department published the preliminary results of its administrative review of the antidumping duty order on pasta from Turkey. See Certain Pasta from Turkey: Notice of Preliminary Results of Antidumping Duty Administrative Review and Notice of Intent Not To Revoke Order in Part, 67 FR 51194 (August 7, 2002) (Preliminary Results). The review covers one manufacturer/exporter. The POR is July 1, 2000, through June 30, 2001. We invited parties to comment on our preliminary results of review. We received case briefs from Filiz and petitioners¹ on September 19, 2002. We received a rebuttal brief from Filiz on September 26, 2002. On December 2, 2002, the Department published a notice postponing the final results of this review until February 3, 2003 (67 FR 71534). The Department has conducted this administrative review in accordance with section 751(a) of the Tariff Act of 1930, as amended (the Act).

¹ The petitioners are New World Pasta Co., Dakota Growers Pasta Co., Borden Foods Corporation, and American Italian Pasta Co.

Scope of Review

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags of varying dimensions.

Excluded from the scope of this review are refrigerated, frozen, or canned pastas, as well as all forms of egg pasta, with the exception of non-egg dry pasta containing up to two percent egg white.

The merchandise subject to review is currently classifiable under item 1902.19.20 of the Harmonized Tariff Schedule of the United States (HTSUS). Although the HTSUS subheading is provided for convenience and Customs purposes, the written description of the merchandise subject to the order is dispositive.

Scope Rulings

The Department has issued the following scope ruling to date:

On October 26, 1998, the Department self-initiated a scope inquiry to determine whether a package weighing over five pounds as a result of allowable industry tolerances is within the scope of the antidumping and countervailing duty orders. On May 24, 1999, we issued a final scope ruling finding that, effective October 26, 1998, pasta in packages weighing or labeled up to (and including) five pounds four ounces is within the scope of the antidumping and countervailing duty orders. See Memorandum from John Brinkmann, Program Manager, to Richard Moreland, Deputy Assistant Secretary, Concerning Final Scope Ruling, dated May 24, 1999, in the case file in the Central Records Unit, main Commerce building, room B-099 (the CRU).

Determination Not to Revoke

In the Preliminary Results of this review, we found that because Filiz had not sold subject merchandise in the United Sates for three years in commercial quantities within the meaning of 19 CFR 351.222(e), Filiz did not qualify for revocation. See Preliminary Results at 51197. Neither Filiz nor petitioners commented on this issue in their case briefs. Thus, we determine not to revoke this order with respect to Filiz.

Analysis of Comments Received

All issues raised in the case and rebuttal briefs by parties to this administrative review are addressed in the Issues and Decision Memorandum for the Fifth Antidumping Duty Administrative Review (Decision Memorandum) from Bernard Carreau, Deputy Assistant Secretary for Import Administration, to Faryar Shirzad, Assistant Secretary for Import Administration, dated concurrently with this notice, which is hereby adopted by this notice. A list of the issues which parties have raised, and to which we have responded in the Decision Memorandum, is attached to this notice as an Appendix. Parties can find a complete discussion of all issues raised in this review and the corresponding recommendations in this public memorandum, which is on file in the CRU. In addition, a complete version of the Decision Memorandum can be accessed on the Web at http://ia.ita.doc.gov. The paper copy and the electronic version of the Decision Memorandum are identical in content.

Changes Since the Preliminary Results

Based on our analysis of comments received, we have made certain changes in the margin calculations. We calculated the export price and normal value using the same methodology described in the Preliminary Results, except as follows:

• The home market insurance field (i.e., INSURH) reported by Filiz was converted from metric tons to kilograms.

• The Department has corrected the packing cost for one control number reported in the cost of production database to reflect changes in the U.S. sales database.

• The home market discount field (i.e., UMER2DISH) reported by Filiz was deleted from the margin calculation program.

• The brand field submitted by Filiz has been omitted as a model match criterion.

These changes are discussed in the relevant sections of the Decision Memorandum.

Final Results of Review

As a result of our review, we determine that the following weighted-average percentage margin exists for the period July 1, 2000, through June 30, 2001:

Manufacturer/exporter | Margin (percent)
Filiz Gida Sanayi ve Ticaret A.S. | 0.00

Assessment Rate

The Department shall determine, and Customs shall assess, antidumping duties on all appropriate entries. In accordance with 19 CFR 351.212(b), we have calculated importer-specific assessment rates by aggregating the dumping margins for all U.S. sales to each importer and dividing the amount by the total entered value of the sales to that importer. Where the importer-specific assessment rate is above de minimis, we will instruct Customs to assess antidumping duties on that importer's entries of subject merchandise. We will direct Customs to assess the resulting percentage margins against the entered Customs values for the subject merchandise on each of that importer's entries under the order during the POR.

Cash Deposit Requirements

The following deposit requirements will be effective upon publication of this notice of final results of administrative review for all shipments of pasta from Turkey entered, or withdrawn from warehouse, for consumption on or after the date of publication, as provided by section 751(a)(1) of the Act: (1) the cash deposit rate for the reviewed company is de minimis or zero and we will instruct Customs not to collect cash deposits; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 51.49 percent, the “All Others” rate established in the LTFV investigation. See Notice of Antidumping Duty Order and Amended Final Determination of Sales at Less Than Fair Value: Certain Pasta from Turkey, 61 FR 38545 (July 24, 1996). These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections section 751(a)(1) and 777(i)(1) of the Act.

Dated: February 3, 2003.
Faryar Shirzad,
Assistant Secretary for Import Administration.

APPENDIX I

List of Comments and Issues in the Decision Memorandum

• Conversion of Filiz's Insurance Expense to Turkish Lira per Kilogram

• Clerical Error in Packing Cost in Filiz's Cost of Production (COP) Database

• Calculation of the Countervailing Duty (CVD) Field

• Inclusion of the Brand of Pasta in Product Match Characteristics

• Allowance of Certain Discounts on Filiz's Home Market Sales

• Adjustment of Filiz's COP to Reflect Actual Cost of Vitamins

• Revision of Filiz's COP to Reflect Verified Production Yields

• Revision of Filiz's COP to Reflect Depreciation Revaluation

• Clerical Errors Regarding Filiz's Foreign Exchange Gains and Losses

[FR Doc. 03-3282 Filed 2-10-03; 8:45 am]

BILLING CODE 3510-DS-S